DEPARTMENT OF THE TREASURY

President's Commission on the United States Postal Service; Request for Comments

AGENCY: Department of the Treasury, Departmental Offices.

ACTION: Notice and request for comments.

SUMMARY: At its January 8th public meeting, the Commission established its public-comment process. This process is designed to ensure that every affected and interested party has an opportunity to share its views and concerns with us. Pursuant to the procedures established at the January 8th public meeting, the Commission has received numerous written comments from a wide variety of sources. Most of these comments are now posted on the Commission's Web site at http://www.treas.gov/offices/domestic-finance/usps.

To ensure that all views are properly considered and tested, the Commission will give interested parties an opportunity to respond to the assertions and recommendations made by other parties during the public-comment process. Rebuttal comments should clearly indicate the specific assertion or recommendation that is being challenged as well as the party that had advanced this assertion or recommendation in its public comment.

The Commission has established three methods by which rebuttal comments can be submitted for consideration and review:

1. Transmission by Email to the following address: pcusps_rebuttal@do.treas.gov. Statements can be embedded in the Email as ASCII text or sent as a MS Word or ASCII text attachment. Do not include artwork or other graphic elements.

2. Stored on 3½ inch high density computer disk as a MS word or ASCII text document (Windows format only) and mailed or hand-delivered to: President's Commission on the United States Postal Service, 1120 Vermont Avenue, NW., Suite 971, Washington, DC 20005.

3. Typewritten statements may be mailed or hand-delivered to: President's Commission on the United States Postal Service, 1120 Vermont Avenue, NW., Suite 971, Washington, DC 20005.

DATES: E-mail transmissions of all rebuttal comments must be received by the Commission no later than 5 p.m. Eastern Standard Time on Thursday, March 13. Mailed submissions must be postmarked no later than 5 p.m. Eastern Standard Time on Thursday, March 13.

FOR FURTHER INFORMATION CONTACT: If you have any questions about this rebuttal process, please contact Randall Lewis or Jana Sinclair White of the Commission staff at (202) 622-5930.

SUPPLEMENTARY INFORMATION: To be accepted by the Commission, rebuttal comments must not exceed a maximum length of 10 pages of double-spaced written text. Please be aware that the Commission may, at its discretion, post any rebuttal comments it receives on the Commission's Web site at http://www.treas.gov/offices/domestic-finance/usps.

Roger Kodat,
Designated Federal Official.

[FR Doc. 03-4819 Filed 2-28-03; 8:45 am]

BILLING CODE 4811-16-P